DEPARTMENT OF THE INTERIOR

Bureau of Land Management

[CO-922-05-1310-FI; COC59640]

Notice of Proposed Reinstatement of Terminated Oil and Gas Lease COC59640

AGENCY: Bureau of Land Management; Interior.

ACTION: Notice of proposed reinstatement of terminated oil and gas lease.

SUMMARY: Pursuant to the provisions of 30 U.S.C. 188(d) and (e), and 43 CFR 3108.2-3(a) and (b)(1), a petition for reinstatement of oil and gas lease COC59640 for lands in Routt County, Colorado, was timely filed and was accompanied by all the required rentals accruing from the date of termination.

FOR FURTHER INFORMATION CONTACT: Bureau of Land Management, Beverly A. Derringer Chief, Fluid Minerals Adjudication, at 303. 239.3765.

SUPPLEMENTARY INFORMATION: The lessee has agreed to the amended lease terms for rentals and royalties at rates of $10.00 per acre, or fraction thereof, per year and 16⅔ percent, respectively. The lessee has paid the required $500 administrative fee and $155 to reimburse the Department for the cost of this Federal Register notice. The lessee has met all the requirements for reinstatement of the lease as set out in section 31(d) and (e) of the Mineral Lands Leasing Act of 1920 (30 U.S.C. 188), and the Bureau of Land Management is proposing to reinstate lease COC59640 effective on October 1, 2004, subject to the original terms and conditions of the lease and the increased rental and royalty rates cited above.

Dated: February 25, 2005.
Beverly A. Derringer,
Chief, Fluid Minerals Adjudication.

[FR Doc. 05-7114 Filed 4-8-05; 8:45 am]

BILLING CODE 4310-JB-B